PEACE CORPS

Information Collection Request; Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995 (44 U.S.C. chapter 35).

DATES: Submit comments on or before April 6, 2016.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA/Privacy Act Officer, Peace Corps, 1111 20th Street, NW., Washington, DC 20526, (202) 692-1236, or email at pcfr@peacecorps.gov.

SUPPLEMENTARY INFORMATION: To better serve the Returned Volunteer Population, Peace Corps Office of Third Goal and Returned Volunteer Services (3GL) has developed a Returned Peace Corps Volunteer (RPCV) Portal. This Portal will allow RPCVs to update their contact information, share stories, request official documentation, view their service history, and enroll in outreach and marketing campaigns.

Omb Control Number: 0420-xxxx.

Title: Returned Peace Corps Volunteer Portal (RPCV Portal).

Type of Review: New.

Affected Public: Individuals.

Respondents' Obligation to Reply: Voluntary.

Burden to the Public:

a. Number of Respondents (first year): 50,000.

b. Number of Respondents (annually): 3,000.

c. Frequency of response: 2 times.

d. Completion time: 5 minutes.

e. Annual burden hours (first year): 8,333 hours.

f. Annual burden hours (annually): 500 hours.

General Description of Collection: To build a robust alumni network it is essential that Peace Corps maintains accurate and up-to-date contact information for RPCVs. By logging into the RPCV Portal, RPCVs access their record in the database directly, and are able to make changes and submit requests at their convenience. The updated contact information collected in the RPCV Portal will be used for outreach and support purposes, along with managing subscriptions for Peace Corps newsletters.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC on March 1, 2016.
Denora Miller,
FOIA/Privacy Act Officer, Management.

[FR Doc. 2016-04898 Filed 3-4-16; 8:45 am]

BILLING CODE 6051-01-P